DEPARTMENT OF EDUCATION

[CFDA No.: 84.351B]

The Cultural Partnerships for At-Risk Children and Youth Program; Notice Inviting Applications for New Awards for Fiscal Year (FY) 2002

Purpose of Program: The Cultural Partnerships for At-Risk Children and Youth Program, authorized under Subpart 15 of Part D of Title V of the Elementary and Secondary Education Act (ESEA), as amended by Public Law 107-110, the No Child Left Behind Act of 2001, supports school-community partnership programs designed to improve the educational performance of at-risk children by providing arts education services and programs, especially programs incorporating arts education standards.

Eligible Applicants: A local educational agency (LEA), acting on behalf of an individual school or schools in which 75 percent or more of the children enrolled in such school(s) are from low-income families based on data used in determining a school's eligibility to operate a schoolwide program pursuant to Title I Section 1114 of the ESEA, in partnership with at least one institution of higher education, museum, local arts agency, or cultural entity that is accessible to individuals within the school district of such school(s) and that has a history of providing quality services to the community. Such entities may include: (i) Nonprofit institutions of higher education, museums, libraries, performing, presenting and exhibiting arts organizations, literary arts organizations, State and local arts organizations, cultural institutions, and zoological and botanical organizations; or (ii) private for-profit entities with a history of training children and youth in the arts. To be eligible, such partnerships shall serve: (1) Students enrolled in schools participating or eligible to participate in a schoolwide program under ESEA Title I Section 1114 and, to the extent practicable, the families of such students; (2) out-of-school children and youth at risk of disadvantages resulting from teenage parenting, substance abuse, recent migration, disability, limited English proficiency, illiteracy, being the child of a teenage parent, living in a single parent household, or dropping out of school; or (3) any combination of in-school and out-of-school at-risk children and youth. Any school or schools to be served through grants received under this program must submit evidence for inclusion in the grant application to the Secretary demonstrating that the school or schools meet the poverty criteria described above. Applicants may submit records kept for the purpose of ESEA Title I that provide proof of eligibility for each school to be served or to participate in the partnership.

Note: The LEA must serve as the fiscal agent for the program.

Applications Available: June 6, 2002.

Deadline for Transmittal of Applications: July 22, 2002.

Deadline for Intergovernmental Review: September 19, 2002.

Available funds: Approximately $4,000,000.

Estimated Number of Awards: 15-20.

Estimated Size of Awards: $200,000-$400,000.

Average Size of Awards: $300,000.

Project Period: up to 36 months.

Note: The Department of Education is not bound by any estimates in this notice. Funding for the second and third years is subject to the availability of funds and the approval of continuation awards (34 CFR 75.253).

General Requirements:

Page Limit Requirement: The program narrative is limited to no more than 40 pages. The page limit applies to the narrative section only, however, all of the application narrative must be included in the narrative section. If the narrative section of an application exceeds the page limitation, the application will not be reviewed. In addition, the following standards are required: (1) Each “page” is 8.5″ x 11″ (on one side only) with one inch margins (top, bottom, and sides); (2) double space (no more than three lines per vertical inch) all text in the application narrative including titles, headings, footnotes, quotations, and captions as well as all text in charts, tables, figures, and graphs; and (3) use a font that is either 12-point or larger or no smaller than 10 pitch (characters per inch).

Project Directors' Meeting: The projects funded under this priority are required to budget for a two-day project directors' meeting in Washington, DC.

Applicable Regulations: The Education Department General Administrative Regulations (EDGAR) in 34 CFR Parts 74, 75, 77, 79, 81, 82, 85, 86, 97, 98, and 99.

E-mail Notification of Intent to Apply for Funding: The Department will be able to develop a more efficient process for reviewing grant applications if it has a better understanding of the number of entities that intend to apply for funding under this competition. Therefore, the Secretary strongly encourages each potential applicant to notify the Department by e-mail that it intends to submit an application for funding. The Secretary requests that this e-mail notification be sent no later than July 8, 2002. The e-mail notification should be sent to Ms. Madeline Baggett at madeline.baggett@ed.gov. Applicants that fail to provide this e-mail notification may still apply for funding.

SUPPLEMENTARY INFORMATION:

Partnership Purposes

At-risk children and youth are generally less likely to have access to and participate in arts education programs, which are often inadequately funded in high-poverty rural and urban areas. Therefore, the Cultural Partnerships for At-Risk Children and Youth Program will support the development of school-community partnership programs that coordinate and integrate local, State, and Federal resources for arts education and enrichment into a service delivery system for at-risk children and youth. The projects funded under this program will support the following program outcomes for both in- and out-of-school at-risk children and youth:

Increased access to and participation in high-quality, standards-based arts education programs and enrichment activities linked to academic improvement, including performance on State, locally-developed, and standardized tests;

Improved student academic performance through participation in high-quality arts education programs; and Increased range in the types of arts education programs and activities available, for example, a variety of music programs in addition to drama and dance.

At the end of the project period, the Department will consider disseminating information on successful approaches for developing, enhancing, or expanding cultural partnerships designed to improve the educational performance of at-risk children and youth through comprehensive and coordinated educational programs and services. This will include evidence of improved educational achievement (i.e., test scores or other academic measures) of at-risk students, along with information regarding the arts education programs and methodologies linked to such improvements.

Waiver of Proposed Rulemaking

In accordance with the Administrative Procedure Act (5 U.S.C. 553), it is the practice of the Secretary to offer interested parties the opportunity to comment on proposed rules. Section 437(d)(1) of the General Education Provisions Act (GEPA), however, allows the Secretary to exempt rules governing the first competition under a new or substantially revised program authority (20 U.S.C. 1232(d)(1)). This competition is the first Cultural Partnerships competition under the reauthorized Arts in Education program as amended by Public Law 107-110, the No Child Left Behind Act of 2001, and therefore qualifies for this exemption. The Secretary, in accordance with section 437(d)(1) of GEPA, has decided to forego public comment in order to ensure timely grant awards. These rules will apply to the FY 2002 grant competition only.

Absolute Priority: Under 34 CFR 75.105(c)(3), the Secretary gives an absolute priority to partnership programs that focus school and cultural resources in the community on coordinated arts education services to address the needs of at-risk middle and high school-aged children and youth both in- and out-of-school. In addition, the project must fully address all of the desired outcomes for at-risk children and youth as described under the Partnership Purposes section of this notice.

Under 34 CFR 75.105(c)(3), the Secretary will fund under this competition only applicants that meet the absolute priority.

Coordination Requirement: Under section 5551(f)(1) of the authorizing statute the Secretary requires that each applicant funded under this competition coordinate, to the extent practicable, each project or program carried out with such assistance with appropriate activities of public or private cultural agencies, institutions, and organizations, including museums, arts education associations, libraries, and theaters.

Supplement, Not Supplant, Requirement: Under section 5551(f)(2) of the authorizing statute, the Secretary requires that assistance provided under this program be used only to supplement, and not to supplant, other assistance or funds made available from non-Federal sources for the activities assisted under this subpart.

Selection Criteria: The Secretary will use the following selection criteria to evaluate applications under this competition. The maximum score for all of the selection criteria is 100 points. The maximum score for each criterion is indicated in parenthesis with the criterion. The criteria are as follows:

(a) Significance (15 Points). (1) The Secretary considers the significance of the proposed project.

(2) In determining the significance of the proposed project, the Secretary considers the following factors:

(i) The extent to which the proposed project is likely to build local capacity to provide, improve, or expand services that address the needs of the target population.

(ii) The importance or magnitude of the results or outcomes likely to be attained by the proposed project, especially improvements in teaching and learning.

(b) Improvement in the Educational Achievement of At-Risk Youth (15 points). Under 34 CFR 75.209(a)(1)(ii), the Secretary reviews each application to determine the manner in which the partnership will improve the educational achievement of at-risk youth through services designed to: (1) Enhance student academic performance in core academic subjects and on standardized tests; and (2) foster the academic potential of at-risk students.

(c) Quality of the Project Design (20 points). (1) The Secretary considers the quality of the project design of the proposed project.

(2) In determining the quality of the project design, the Secretary considers the following factors:

(i) The extent to which the proposed project meets the priority or priorities established for the competition.

(ii) The extent to which the goals, objectives, and outcomes to be achieved by the proposed project are clearly specified and measurable and appropriate to the needs of the intended recipients of the project services.

(iii) The extent to which the design for implementing and evaluating the proposed project will result in information to guide possible replication of project activities or strategies, including information about the effectiveness of the approach or strategies employed by the project.

(d) Quality of Project Personnel (10 points). (1) The Secretary considers the quality of the personnel who will carry out the proposed project.

(2) In determining the quality of project personnel, the Secretary considers the extent to which the applicant encourages applications for employment from persons who are members of groups that have traditionally been under-represented based on race, color, national origin, gender, age, or disability.

(3) In addition, the Secretary considers the following factors:

(i) The qualifications, including relevant training and experience, of the project director.

(ii) The qualifications, including relevant training and experience, of key project personnel.

(iii) The qualifications, including relevant training and experience, of project consultants or subcontractors.

(e) Adequacy of Resources (10 points). (1) The Secretary considers the adequacy of resources for the proposed project.

(2) In determining the adequacy of resources for the proposed project, the Secretary considers the following factors:

(i) The adequacy of support, including facilities, equipment, supplies, and other resources, from the lead applicant organization.

(ii) The extent to which the budget is adequate to support the proposed project.

(iii) The potential for continued support of the project after Federal funding ends, including, as appropriate, the demonstrated commitment of appropriate entities to such support.

(f) Quality of the Management Plan (15 points). (1) The Secretary considers the quality of the management plan for the proposed project.

(2) In determining the quality of the management plan for the proposed project, the Secretary considers the following factors:

(i) The adequacy of the management plan to achieve the objectives of the proposed project on time and within budget, including clearly defined responsibilities, time lines, and milestones for accomplishing project tasks.

(ii) The adequacy of procedures for ensuring continuous feedback and continuous improvement in the operation of the proposed project.

(iii) The extent to which the time commitments of the project director and other key project personnel are appropriate and adequate to meet the objectives of the proposed project.

(iv) How the applicant will ensure that a diversity of perspectives are brought to bear in the operation of the proposed project.

(g) Quality of the Project Evaluation (15 points). (1) The Secretary considers the quality of the project evaluation.

(2) In determining the quality of the project evaluation, the Secretary considers one or more of the following factors:

(i) The extent to which the methods of evaluation include objective performance measures that are clearly related to the intended outcomes of the project and will produce quantitative and qualitative data to the extent possible.

(ii) The extent to which the evaluation will provide guidance about effective strategies suitable for replication or testing in other settings.

For Applications Contact: Education Publications Center (ED Pubs), P.O. Box 1398, Jessup, MD 20794-1398. Telephone (toll free): 1-877-433-7827. FAX: (301) 470-1244. If you use a telecommunications device for the deaf (TDD) you may call (toll free): 1-877-576-7734.

You may also contact ED Pubs at its Web site: http://www.ed.gov/about/ordering.jsp. Or you may contact ED Pubs at its e-mail address: edpubs@inet.ed.gov.

If you request an application from ED Pubs, be sure to identify this competition as follows: CFDA number 84.351B.

For Technical Assistance on Program Requirements Contact: Madeline E. Baggett, U.S. Department of Education, FB-6, Room 3E228, 400 Maryland Avenue, SW., Washington, DC 20202-6140. Telephone (202) 260-2502 or via internet: Madeline.Baggett@ed.gov.

Electronic Access To This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO) toll free at 1-888-293-6498, or in the Washington, DC area at 202-512-1530.

Individuals with disabilities may obtain this document in an alternative format (e.g., Braille, large print, audiotape, or computer diskette) on request using the contact information provided under For Applications Contact.

Note: The official version of this document is the document published in the Federal Register. Free Internet access to the official edition of the Federal Register and the Code of Federal Regulations is available on GPO Access at: http://www.access.gpo.gov/nara/index.html.

Authority: Program Authority:

20 U.S.C. 7271.

Dated: May 31, 2002.
Susan B. Neuman,
Assistant Secretary for Elementary and Secondary Education.

[FR Doc. 02-14124 Filed 6-5-02; 8:45 am]

BILLING CODE 4000-01-P